DEPARTMENT OF DEFENSE

Department of the Army

Privacy Act of 1974, System of Records

AGENCY: Department of the Army, DoD.

ACTION: Notice to alter a system of records.

SUMMARY: The Department of the Army proposes to alter a system of records notice in its inventory of records systems subject to the Privacy Act of 1974 (5 U.S.C. 552a), as amended.

DATES: This proposed action will be effective without further notice on December 27, 2005, unless comments are received which result in a contrary determination.

ADDRESSES: Send comments to Department of the Army, Freedom of Information/Privacy Division, U.S. Army Records Management and Declassification Agency, ATTN: AHRC-PDD-FPZ, 7701 Telegraph Road, Casey Building, Suite 144, Alexandria, VA 22325-3905.

FOR FURTHER INFORMATION CONTACT: Ms. Janice Thornton at (703) 428-6497.

SUPPLEMENTARY INFORMATION: The Department of the Army systems of records notices subject to the Privacy Act of 1974 (5 U.S.C. 552a), as amended, have been published in the Federal Register and are available from the address above.

The proposed system report, as required by 5 U.S.C. 552a(r) of the Privacy Act of 1974, as amended, was submitted on November 18, 2005 to the House Committee on Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: November 18, 2005.
L.M. Bynum,
Federal Register Liaison Officer, Department of Defense.

A040-66a DASG

System name:

Medical Staff Credentials File (March 27, 2003 68 FR 14954).

Changes:

* * * * *

System Location:

Add the following address: “U.S. Army Center for Health Promotion and Preventive Medicine, 5158 Blackhawk Road, Aberdeen Proving Ground, MD 21010-5403.”

Categories of individuals covered by the system:

Delete entry and replace with: “Individuals performing clinical practice, occupational health, industrial hygiene, and emergency medical activities in support of medical treatment facilities.”

Categories of records in the System:

Add the following: “education, training, and occupational experience and competencies.”

Authority for Maintenance of the System:

Delete entry and replace with: “10 U.S.C. 3013, Secretary of the Army; 10 U.S.C. Chapter 55, Medical and Dental Care; Army Regulation 40-66, Medical Record Administration and Health Care Documentation; Army Regulation 40-68, Clinical Quality Management; Army Regulation 40-5, Preventive Medicine, and E.O. 9397 (SSN).”

Purpose(s):

Add the following: “and identify service-wide occupational health program strengths and weaknesses.”

* * * * *

Storage:

Add the following: “and electronic storage media.”

Retrievability:

Add the following: “and/or Social Security Number.”

Safeguards:

Delete entry and replace with: “Records are maintained in monitored or controlled access rooms or areas; public access to the records is not permitted; computer hardware is located in supervised areas; access is controlled by password or other user code system; utilization reviews ensure that the system is not violated. Access is restricted to personnel having a need for the record in the performance of their duties. Buildings/rooms are locked outside regular working hours.”

Retention and Disposal:

Delete first sentence and replace with: “Records are retained in medical treatment facility of individual's last assignment and in the U.S. Army Center for Health Promotion and Preventive Medicine database.”

System manager(s) and address:

Add the following address: “Commander, U.S. Army Center for Health Promotion and Prevention Medicine, 5158 Blackhawk Road, Aberdeen, MD 21010-5403.”

* * * * *

Record source categories:

Delete entry and replace with: “Interviewer, individual's application, medical audit results, voluntary self-reporting, and other administrative or investigative records obtained from civilian or military sources.”

* * * * *

A0040-66a DASG

System name:

Medical Staff Credentials File.

System location:

U.S. Army Center for Health Promotion and Prevention Medicine, 5158 Blackhawk Road, Aberdeen Proving Ground, MD 21010-5403.

Medical treatment facilities at Army commands, installations and activities. Official mailing addresses are published as an appendix to the Army's compilation of record systems notices.

Categories of individuals covered by the system:

Individuals performing clinical practice, occupational health, industrial hygiene, and emergency medical activities in support of medical treatment facilities.

Categories of records in the system:

Documents reflecting delineation of clinical privileges and clinical performance and medical malpractice case files, education, training, and occupational experience and competencies.

Authority for maintenance of the system:

10 U.S.C. 3013, Secretary of the Army; 10 U.S.C. Chapter 55, Medical and Dental Care; Army Regulation 40-66, Medical Record Administration and Health Care Documentation; Army Regulation 40-68, Clinical Quality Management, Army Regulation 40-5, Preventive Medicine, and E.O. 9397 (SSN).

Purpose(s):

To determine and assess capability of practitioner's clinical practice and identify service-wide occupational health program strengths and weaknesses.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

In specific instances, clinical privileged information from this system of records may be provided to civilian and military medical facilities, Federal of State medical Boards of the United States, State Licensure Authorities and other appropriate professional regulating bodies for use in assuring high quality health care.

The DoD ‘Blanket Routine Uses’ set forth at the beginning of the Army's compilation of systems of records notices also apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Paper records in file folders and electronic storage media.

Retrievability:

By individual's surname and/or Social Security Number.

Safeguards:

Records are maintained in monitored or controlled access rooms or areas; public access to the records is not permitted; computer hardware is located ins supervised areas; access is controlled by password or other user code system; utilization reviews ensure that the system is not violated. Access is restricted to personnel having a need for the record in the performance of their duties. Buildings/rooms are locked outside regular working hours.

Retention and disposal:

Records are retained in medical treatment facility of individual's last assignment and in the U.S. Army Center for Health Promotion and Preventive Medicine database. Records of military members are transferred to individual's Military Personnel Records Jacket upon separation or retirement. Records on civilian personnel are destroyed 5 years after employment terminates.

Medical malpractice case files are destroyed after 10 years.

System manager(s) and address:

Chief Information Officer, Office of the Surgeon General, U.S. Army Medical Command, ATTN: MCIM, 2050 Worth Road, Suite 13, Fort Sam Houston, TX 78234-6013.

Commander, U.S. Army Center for Health Promotion and Preventive Medicine, 5158 Blackhawk Road, Aberdeen, MD 21010-5403.

Notification procedure:

Individual's seeking to determine whether information about themselves is contained in this system should address written inquiries to the commander of the medical treatment where practitioner provided clinical service. Official mailing addresses are published as an appendix to the Army's compilation of record systems notices.

For verification purposes, the individual should provide the full name, Social Security Number, and signature.

Record access procedures:

Individuals seeking access to records about themselves contained in this record system should address written inquiries to the commander of the medical treatment where practitioner provided clinical service. Official mailing addresses are published as an appendix to the Army's compilation of record systems notices.

For verification purposes, the individual should provide the full name, Social Security Number, and signature.

Contesting record procedures:

The Army's rules for accessing records, and for contesting contents and appealing initial agency determination are contained in Army Regulation 340-21; 32 CFR part 505; or may be obtained from the system manager.

Record source categories:

Interviewer, individual's application, medical audit results, voluntary self-reporting, and other administrative or investigative records obtained from civilian or military sources.

Exemptions claimed for the system:

None.

[FR Doc. 05-23264 Filed 11-23-05; 8:45 am]

BILLING CODE 5001-06-M